INTERNATIONAL TRADE COMMISSION

[Investigation No. 337-TA-1297]

Certain Video Processing Devices, Components Thereof, and Digital Smart Televisions Containing the Same II; Institution of Investigation

AGENCY: U.S. International Trade Commission.

ACTION: Notice.

SUMMARY: Notice is hereby given that a complaint was filed with the U.S. International Trade Commission on November 24, 2021, under section 337 of the Tariff Act of 1930, as amended, on behalf of DivX, LLC of San Diego, California. The complaint was supplemented by letter on December 7, 2021, and an amended complaint was filed on December 28, 2021. The complaint, as amended, alleges violations of section 337 based upon the importation into the United States, the sale for importation, and the sale within the United States after importation of certain video processing devices, components thereof, and digital smart televisions containing the same by reason of infringement of one or more claims of U.S. Patent No. 8,832,297 (“the '297 patent”) and U.S. Patent No. 8,472,792 (“the '792 patent”). The amended complaint further alleges that an industry in the United States exists or is in the process of being established as required by the applicable Federal Statute.

The complainant requests that the Commission institute an investigation and, after the investigation, issue a limited exclusion order and cease and desist orders.

ADDRESSES: The complaint, as amended, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Jessica Mullan, Office of Docket Services, U.S. International Trade Commission, telephone (202) 205-1802.

SUPPLEMENTARY INFORMATION: Authority: The authority for institution of this investigation is contained in section 337 of the Tariff Act of 1930, as amended, 19 U.S.C. 1337, and in section 210.10 of the Commission's Rules of Practice and Procedure, 19 CFR 210.10 (2021).

Scope of investigation: Having considered the complaint, the U.S. International Trade Commission, on January 28, 2022, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-11 and 14-17 of the '297 patent and claims 15-23 of the '792 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “certain video processing devices, components thereof, and digital smart televisions containing the same, including printed circuit board assemblies for use in video processing in digital smart televisions and associated software and/or firmware”;

(3) For the purpose of the investigation so instituted, the following are hereby named as parties upon which this notice of investigation shall be served:

(a) The complainant is:

DivX, LLC, 4350 La Jolla Village Drive, Suite 950, San Diego, California 92122

(b) The respondents are the following entities alleged to be in violation of section 337, and are the parties upon which the amended complaint is to be served:

TCL Technology Group Corporation, TCL Technology Building No. 17, Huifeng 3rd Road, Zhongkai High-Tech Development District, Huizhou, Guangdong, 516006, China

TCL Electronics Holdings Limited, 9 Floor, TCL Electronics Holdings Limited Building, TCL International E City, #1001 Zhongshan Park Road, Nanshan District, Shenzhen, Guangdong, 518067, China

TTE Technology, Inc., 1860 Compton Avenue, Corona, CA 92881, Shenzhen TCL New Technologies Co. Ltd., 9 Floor, TCL Electronics Holdings Limited Building, TCL International E City, #1001 Zhongshan Park Road, Nanshan District, Shenzhen, Guangdong, 518067, China

TCL King Electrical Appliances (Huizhou) Co. Ltd., No. 78, 4th Huifeng Rd, Zhongkai New & High-Tech Industries, Development Zone, Huizhou, Guangdong, 516006, China

TCL MOKA International Limited, 7/F Hong Kong Science Park, Building 22 E, 22 Science Park East Avenue, Sha Tin, New Territories, Hong Kong

TCL Smart Device (Vietnam) Co., Ltd, No. 26 VSIP II-A, Street 32, Vietnam Singapore Industrial Park II-A, Tan Binh Commune, Bac Tan Uyen District, Binh Duong Province, 75000, Vietnam; and

(4) For the investigation so instituted, the Chief Administrative Law Judge, U.S. International Trade Commission, shall designate the presiding Administrative Law Judge.

The Office of Unfair Import Investigations will not be participating as a party in this investigation.

Responses to the amended complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: January 31, 2022.
Lisa Barton,
Secretary to the Commission.

[FR Doc. 2022-02307 Filed 2-2-22; 8:45 am]

BILLING CODE 7020-02-P